DEPARTMENT OF TRANSPORTATION

Federal Aviation Administration

Advisory Circular 39-8, Continued Airworthiness Assessments of Powerplant and Auxiliary Power Unit Installations on Transport Category Airplanes

AGENCY: Federal Aviation Administration (FAA), DOT.

ACTION: Notice of issuance of advisory circular.

SUMMARY: This notice announces the issuance of advisory circular (AC) 39-8, Continued Airworthiness Assessments of Powerplant and Auxiliary Power Unit Installations on Transport Category Airplanes. This AC describes the Continued Airworthiness Assessment Methodologies (CAAM). The Federal Aviation Administration (FAA) Engine and Propeller Directorate (EPD) and the Transport Airplane Directorate (TAD) may use CAAM to identify unsafe conditions and determine when an “unsafe condition is likely to exist or develop in other products of the same type design” before prescribing corrective action in accordance with Title 14 of the Code of Federal Regulations (14 CFR) part 39. CAAM is used for products associated with the Powerplant or Auxiliary Power Unit (APU) Installations on Transport Category Airplanes.

DATES: The Director, Aircraft Certification Service, issued AC 39-8 on September 8, 2003.

FOR FURTHER INFORMATION CONTACT: Ann Azevedo, Engine and Propeller Standards Staff, ANE-110, 12 New England Executive Park, Burlington, Massachusetts 01803; telephone: (781) 238-7117; fax: (781) 238-7199; e-mail: ann.azevedo@faa.gov. The subject AC is available on the Internet at the following address: www.airweb.faa.gov/rgl.

SUPPLEMENTARY INFORMATION: The FAA published a notice in the Federal Register on May 15, 2000 (65 FR 31051), and again on October 2, 2002 (67 FR 61947), to announce the availability of the proposed AC and invite interested parties to comment.

Authority: 49 U.S.C. 106(g), 40113, 44701-44702, 44704)
Issued in Washington, DC, on September 30, 2003.
John J. Hickey,
Director, Aircraft Certification Service.

[FR Doc. 03-25749 Filed 10-9-03; 8:45 am]

BILLING CODE 4910-13-M